DEPARTMENT OF ENERGY

Federal Energy Regulatory Commission

[Docket Nos. EC03-131-003, EC03-131-004]

Oklahoma Gas and Electric Company; Notice of Technical Conference

November 23, 2005.

Parties are invited to attend a technical conference in the above-referenced Oklahoma Gas and Electric Company (OG&E) proceeding on December 1, 2005 at Commission Headquarters, 888 First Street, NE., Washington, DC 20426. The technical conference will be held from 10 a.m. until 5 p.m, in Conference Room 3M2-A. Arrangements have been made for parties to listen to the technical conference by telephone.

On July 2, 2004, the Commission approved OG&E's Offer of Settlement in this proceeding subject to certain modifications. In the Offer of Settlement, OG&E offered a number of permanent and interim mitigation measures. Among these mitigation measures was a commitment to construct a 600 MW Bridge between InterGen's Redbud Energy Project and OG&E's control area that would create an additional 600 MWs of available transmission capacity. See Oklahoma Gas and Electric and NRG McClain LLC, 105 FERC ¶ 61,297 (2003), order approving settlement, 108 FERC ¶ 61,004 (2004). On May 31, 2005, OG&E filed a letter informing the Commission that, as of May 19, 2005, all of the facilities that OG&E committed to construct under the Offer of Settlement were placed into commercial operation.

The purpose of the conference is to discuss whether the upgrades completed by OG&E resulted in an additional 600 MWs of available transmission capacity, as required in the July 2004 Order.

Questions about the conference and the telephone conference call arrangements should be directed to: David Hunger, David.hunger@ferc.gov, Office of Markets Tariffs and Rates, Federal Energy Regulatory Commission, 888 First Street, NE., Washington, DC 20426, (202) 502-8148.

Magalie R. Salas,
Secretary.

[FR Doc. E5-6696 Filed 11-29-05; 8:45 am]

BILLING CODE 6717-01-P